DEPARTMENT OF LABOR

Employment and Training Administration

[TA-W-63,136]

Netra Systems USA, Inc., Fayetteville, GA; Notice of Termination of Investigation

Pursuant to Section 221 of the Trade Act of 1974, as amended, an investigation was initiated on April 4, 2008 in response to a worker petition filed by a company official on behalf of workers at Netra Systems USA, Inc., Fayetteville, Georgia.

The petitioner has requested that the petition be withdrawn. Consequently, the investigation has been terminated.

Signed at Washington, DC this 6th day of May 2008.
Richard Church,
Certifying Officer, Division of Trade Adjustment Assistance.

[FR Doc. E8-10592 Filed 5-12-08; 8:45 am]

BILLING CODE 4510-FN-P